DEPARTMENT OF TRANSPORTATION

Federal Motor Carrier Safety Administration

[Docket No. FMCSA-2018-0182]

Hours of Service of Drivers: Allied Beverage Group L.L.C. (Allied); Application for Exemption

AGENCY: Federal Motor Carrier Safety Administration (FMCSA), DOT.

ACTION: Notice of application for exemption; request for comments.

SUMMARY: FMCSA announces that it has received an application from Allied Beverage Group L.L.C. (Allied) for an exemption from the requirement that short-haul drivers utilizing the records of duty status (RODS) exception return to their normal work-reporting location within 12 hours of coming on duty. Allied requests that their company drivers be allowed to use the short-haul exception but return to their work-reporting location within 14 hours instead of the usual 12 hours. The requested exemption would apply to all of Allied's drivers who operate commercial motor vehicle (CMV) beverage trucks. FMCSA requests public comment on Allied's application for exemption.

DATES: Comments must be received on or before September 5, 2018.

ADDRESSES: You may submit comments identified by Federal Docket Management System Number FMCSA-2018-0182 by any of the following methods:

• Federal eRulemaking Portal: www.regulations.gov. See the Public Participation and Request for Comments section below for further information.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m. E.T., Monday through Friday, except Federal holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Mr. Richard Clemente, FMCSA Driver and Carrier Operations Division; Office of Carrier, Driver and Vehicle Safety Standards; Telephone: 202-366-2722. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2018-0182), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2018-0182” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption

Allied seeks an exemption from the restriction of the record of duty status (RODS) exception for short-haul operations to drivers who return to their normal work reporting location within 12 hours [49 CFR 395.1(e)(1)(ii)(A)]. Specifically, Allied requests that their beverage truck delivery drivers be treated the same as drivers operating ready-mixed concrete delivery vehicles as provided in 49 CFR 395.1(e)(1)(ii)(B). Section 395.1(e)(1)(ii)(B) states that the driver of a ready-mixed concrete delivery vehicle may return to the work-reporting location and be released from work within 14 consecutive hours without losing the short-haul exception. The requested exemption would apply to all of Allied's beverage trucks and drivers.

Allied is an interstate private carrier headquartered in New Jersey consisting of 186 vehicles and 198 drivers. The exemption is requested to simplify and eliminate the need for paper RODS or the cost of installing electronic logging devices needed for the recording of duty status between the 12th and 14th hour of duty when utilizing the short-haul exception for operations within a 100 air-mile radius. Their drivers work on a 4-day work week and on occasion and at times during peak holiday seasons work past the 12th hour of duty. They are in the same town doing multiple stops often crossing town lines only to return to complete a stop that was not open or required a specific time delivery. To log every event change is a difficult if not impossible task. At times the CMV is in a particular area for at most several minutes. Employee's total driving time for the day is minimal, with 25-35 stops—the majority of their time—spent hand unloading their products. Allied operates two warehouses in New Jersey, dispatching so as to avoid traveling long distances.

Allied asserts that this exemption would have no impact on the safety of its fleet or of the general public, as this is primarily about a recording requirement. Its drivers' hours are recorded and retained by an automated data processing system and in addition all of their vehicles are under a global positioning system tracking system provided by Fleetmatics and Roadnet dispatching. Allied continues to strive for a safer fleet and the increased safety of the general public. Allied is also exploring the possibility of installing an onboard event camera system to help the company better monitor its vehicles.

A copy of the Allied's application for exemption is available for review in the docket for this notice.

Issued on: July 27, 2018.
Larry W. Minor,
Associate Administrator for Policy.

[FR Doc. 2018-16762 Filed 8-3-18; 8:45 am]

BILLING CODE 4910-EX-P